DEPARTMENT OF HOMELAND SECURITY

[Docket No. DHS-2013-0067]

Sector Outreach and Programs Division Online Meeting Registration Tool

AGENCY: National Protection and Programs Directorate, DHS

ACTION: 30-day notice and request for comments; Reinstatement of Information Collection Request: 1670-0019.

SUMMARY: The Department of Homeland Security (DHS), National Protection and Programs Directorate (NPPD), Office of Infrastructure Protection (IP), Sector Outreach and Programs Division (SOPD), will submit the following Information Collection Request to the Office of Management and Budget (OMB) for review and clearance in accordance with the Paperwork Reduction Act of 1995. NPPD is soliciting comments concerning Renewal Information Collection Request, Sector Outreach and Programs Division Online Meeting Registration Tool. DHS previously published this ICR in the Federal Register on June 01, 2016 for a 60-day public comment period. DHS received no comments. The purpose of this notice is to allow an additional 30 days for public comments.

DATES: Comments are encouraged and will be accepted until October 12, 2016. This process is conducted in accordance with 5 CFR 1320.10.

ADDRESSES: Interested persons are invited to submit written comments on the proposed information collection to the Office of Information and Regulatory Affairs, OMB. Comments should be addressed to OMB Desk Officer, Department of Homeland Security, Office of Civil Rights and Civil Liberties. Comments must be identified by DHS-2013-0067 and may be submitted by one of the following methods:

• Federal eRulemaking Portal: http://www.regulations.gov.

• Email: oira_submission@omb.eop.gov. Include the docket number in the subject line of the message.

• Fax: (202) 395-5806

Instructions: All submissions received must include the words “Department of Homeland Security” and the docket number for this action. Comments received will be posted without alteration at http://www.regulations.gov, including any personal information provided.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: Michael Bowen DHS/NPPD/IP/SOPD/, Michael.Bowen@hq.dhs.gov.

SUPPLEMENTARY INFORMATION: On behalf of DHS, NPPD/IP manages the Department's program to protect the Nation's 16 critical infrastructure sectors by implementing the National Infrastructure Protection Plan (NIPP) 2013 Partnering for Critical Infrastructure Security and Resilience. Under Presidential Policy Directive 21 on Critical Infrastructure Security and Resilience (February 2013), each sector is assigned a Sector Specific Agency (SSA) to oversee Federal interaction with the array of sector security partners, both public and private. SSAs are responsible for leading unified public-private sector efforts to develop, coordinate, and implement a comprehensive physical, human, and cybersecurity strategy for its assigned sector. The SOPD executes the SSA responsibilities for the six critical infrastructure sectors assigned to IP: Chemical; Commercial Facilities; Critical Manufacturing; Dams; Emergency Services; and Nuclear Reactors, Materials, and Waste.

The mission of SOPD is to enhance the resiliency of the Nation by leading the unified public-private sector effort to ensure its assigned critical infrastructure are prepared, secure, and safe from terrorist attacks, natural disasters, and other incidents. To achieve this mission, SOPD leverages the resources and knowledge of its critical infrastructure sectors to develop and apply security initiatives that result in significant benefits to the Nation.

Each SOPD branch builds sustainable partnerships with its public and private sector stakeholders to enable more effective sector coordination, information sharing, and program development and implementation. These partnerships are sustained through the Sector Partnership Model, described in the NIPP 2013, pages 10-12.

Information sharing is a key component of the NIPP Partnership Model, and DHSsponsored conferences are one mechanism for information sharing. To facilitate conference planning and organization, SOPD established an event registration tool for use by all of its branches. The information collection is voluntary and is used by the SSAs within SOPD. The six SSAs within SOPD use this information to register public and private sector stakeholders for meetings hosted by the SSA. SOPD will use the information collected to reserve space at a meeting for the registrant, contact the registrant with a reminder about the event, develop meeting materials for attendees, determine key topics of interest, and efficiently generate attendee and speaker nametags. Additionally, it will allow SOPD to have a better understanding of the organizations participating in the critical infrastructure protection partnership events. By understanding who is participating, the SSA can identify portions of a sector that are underrepresented, and the SSA could then target that underrepresented sector element through outreach and awareness initiatives.

Analysis

Agency: Department of Homeland Security, National Protection and Programs Directorate, Office of Infrastructure Protection, Sector Outreach and Programs Division.

Title: Sector Outreach and Programs Division Online Meeting Registration Tool.

OMB Number: 1670-0019.

Frequency: Annually.

Affected Public: Federal, State, local, tribal, and territorial government personnel; private sector members.

Number of Respondents: 3,000 respondents (estimate).

Estimated Time per Respondent: 3 minutes.

Total Burden Hours: 150 annual burden hours.

Total Burden Cost (capital/startup): $0.

Total Recordkeeping Burden: $6,000.

Total Burden Cost (operating/maintaining): $11,380.

Dated: September 6, 2016.
David Epperson,
Chief Information Officer, National Protection and Programs Directorate, Department of Homeland Security.

[FR Doc. 2016-21852 Filed 9-9-16; 8:45 am]

BILLING CODE 9110-9P-P